DEPARTMENT OF ENERGY

Federal Energy Regulatory Commission

[Project No. 15006-001]

Owyhee Energy Storage, LLC; Notice of Intent To File License Application, Filing of Pre-Application Document (PAD), Commencement of ILP Pre-Filing Process and Scoping; Request for Comments on the PAD and Scoping Document, and Identification of Issues and Associated Study Requests

a. Type of Filing: Notice of Intent to File License Application for an Original License, Commencing Pre-filing Process, and Denial of Request to Use the Traditional Licensing Process.

b. Project No.: 15006-001.

c. Dated Filed: April 14, 2023.

d. Submitted By: Owyhee Energy Storage, LLC (OES).

e. Name of Project: Owyhee Pumped Storage Project (Owyhee Project)

f. Location: On the northeast side of U.S. Bureau of Reclamation's (Reclamation) Owyhee Reservoir on the Owyhee River approximately 10 miles southwest of Adrian in Malheur County, Oregon. The project would be located on Federal lands owned and/or administered by Reclamation and Bureau of Land Management.

g. Filed Pursuant to: 18 CFR part 5 of the Commission's regulations.

h. Applicant Contact: Mr. Matthew Shapiro, rPlus Hydro LLLP, 800 West Main Street, Suite 640, Boise, Idaho 83702; phone: (208) 246-9925.

i. FERC Contact: John Matkowski, (202) 502-8576, john.matkowski@ferc.gov.

j. OES filed its Pre-Application Document (PAD) and request to use the Traditional Licensing Process (TLP) on April 14, 2023. OES published public notice of its Notice of Intent to file a license application, PAD, and request to use the TLP on the same day. After reviewing comments submitted by stakeholders, Commission staff denied OES's request to use the TLP on June 13, 2023. OES must use the Integrated Licensing Process to prepare a license application for the Owyhee Project.

k. Cooperating agencies: Federal, State, local, and Tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

l. With this notice, we are initiating informal consultation with: (a) the U.S. Fish and Wildlife Service and/or NOAA Fisheries under section 7 of the Endangered Species Act and the joint agency regulations thereunder at 50 CFR part 402; and (b) the Oregon State Historic Preservation Officer, as required by section 106, National Historic Preservation Act, and the implementing regulations of the Advisory Council on Historic Preservation at 36 CFR 800.2.

m. With this notice, we are designating OES as the Commission's non-Federal representative for carrying out informal consultation, pursuant to section 7 of the Endangered Species Act, and section 106 of the National Historic Preservation Act.

n. A copy of the PAD is available for review on the Commission's website (http://www.ferc.gov), using the “eLibrary” link. Enter the docket number, excluding the last three digits in the docket number field to access the document. For assistance, contact FERC Online Support at FERCOnlineSupport@ferc.gov, (866) 208-3676 (toll free), or (202) 502-8659 (TTY). A copy of the PAD is also available for public inspection during normal business hours at the office of rPlus Hydro, 800 W. Main Street, Suite 640, Boise, Idaho 83702.

You may register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595, or at OPP@ferc.gov.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file documents using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Owyhee Pumped Storage Project (P-15006-001).

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by October 7, 2023.

p. Scoping Process

In accordance with the National Environmental Policy Act (NEPA), Commission staff will prepare either an environmental assessment (EA) or an environmental impact statement (EIS) (collectively referred to as the “NEPA document”). The NEPA document will consider both site-specific and cumulative environmental effects, and reasonable alternatives to the proposed action. The Commission's scoping process will help determine the required level of analysis and satisfy the NEPA scoping requirements, irrespective of whether the Commission prepares an EA or EIS.

Scoping Meetings

Commission staff will hold two public scoping meetings to receive input on the scope of the environmental issues that should be analyzed in the NEPA document. The daytime scoping meeting will focus on resource agency, Native American Tribes, and non-governmental organization (NGO) concerns, while the evening scoping meeting will focus on receiving input from the public. We invite all interested agencies, Native American Tribes, NGOs, and individuals to attend one of these meetings to assist us in identifying the scope of environmental issues that should be analyzed in the NEPA document. The dates, times and locations of these meetings are as follows:

Daytime Scoping Meeting

Date: Wednesday, September 6, 2023

Time: 2:00 p.m.-4:00 p.m. Mountain Daylight Time (MDT)

Place: Holiday Inn Express & Suites—Ontario Meeting Room

Address: 212 SE 10th St, Ontario, OR 97914

Evening Scoping Meeting

Date: Wednesday, September 6, 2023

Time: 6:00 p.m.-8:00 p.m. MDT

Place: Holiday Inn Express & Suites—Ontario Meeting Room

Address: 212 SE 10th St, Ontario, OR 97914

Copies of SD1, outlining the subject areas to be addressed in the environmental document, was mailed to the individuals and entities on the Commission's mailing list and OES's PAD distribution list. Copies of SD1 may be viewed on the web at http://www.ferc.gov, using the “eLibrary” link. Follow the directions for accessing information in paragraph n. Based on all oral and written comments, a Scoping Document 2 (SD2) may be issued. SD2 may include a revised process plan and schedule, as well as a list of issues, based on the scoping process.

Environmental Site Reviews

The applicant and Commission staff will conduct an environmental site review of the proposed project. All interested agencies, Native American Tribes, NGOs, and individuals are invited to attend. All participants are responsible for their own transportation and must wear closed-toe shoes/boots for walking in uneven/sloped terrain around the proposed project area. If you plan to attend the environmental site review, please contact Matthew Shapiro with rPlus Hydro at (208) 246-9925, or via email at mshapiro@rplusenergies.com, on or before August 25, 2023. If calling to RSVP, stakeholders should provide their name, phone number, and an email address. The time and location of the environmental site review is as follows:

Owyhee Project On-Site Environmental Site Review

Date: Thursday, September 7, 2023

Time: 9:30 a.m. to 2:30 p.m. (MDT)

Place: The location to meet for the Environmental Site Review will be provided to those that RSVP

Meeting Objectives

At the scoping meetings, Commission staff will: (1) initiate scoping of the issues; (2) review and discuss existing conditions; (3) review and discuss existing information and identify preliminary information and study needs; (4) review and discuss the process plan and schedule for pre-filing activity that incorporates the time frames provided for in part 5 of the Commission's regulations and, to the extent possible, maximizes coordination of Federal, State, and Tribal permitting and certification processes; and (5) discuss the potential of any Federal or State agency or Native American Tribe to act as a cooperating agency for development of an environmental document. Meeting participants should come prepared to discuss their issues and/or concerns. Please review the PAD in preparation for the scoping meetings. Directions on how to obtain a copy of the PAD and SD1 are included in item n of this document.

Meeting Procedures

The scoping meetings will be recorded by a court reporter, and all statements will become part of the Commission's public record for the project.

Agencies, Native American Tribes, NGOs, and individuals with environmental expertise and concerns are encouraged to attend the meetings and to assist Commission staff in defining and clarifying the issues to be addressed in the NEPA document.

Dated: August 8, 2023.
Kimberly D. Bose,
Secretary.

[FR Doc. 2023-17478 Filed 8-14-23; 8:45 am]

BILLING CODE 6717-01-P